DEPARTMENT OF HEALTH AND HUMAN SERVICES

Centers for Disease Control and Prevention

[30Day-18-17AYG]

Agency Forms Undergoing Paperwork Reduction Act Review

In accordance with the Paperwork Reduction Act of 1995, the Centers for Disease Control and Prevention (CDC) has submitted the information collection request titled Effective Communication in Public Health Emergencies—Developing Community-Centered Tools for People with Special Health Care Needs to the Office of Management and Budget (OMB) for review and approval. CDC previously published a “Proposed Data Collection Submitted for Public Comment and Recommendations” notice on September 20, 2017 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Effective Communication in Public Health Emergencies—Developing Community-Centered Tools for People with Special Health Care Needs—New—Office of Public Health Preparedness and Response (OPHPR), Centers for Disease Control and Prevention (CDC).

Background and Brief Description

Individuals with access and mobility challenges, chronic illness, intellectual and developmental disabilities, and other communication difficulties require targeted messages before, during, and after disasters to ensure that they fully appreciate the risks to their health and safety and can take measures to avoid harm. Significant research has highlighted the unique information needs for at-risk populations in general, as well as more specific populations such as minority communities, limited-English proficiency communities, and persons with physical or communication disabilities. However, there has been minimal translation of this research into practical tools for sharing information, nor has the research been extended to the families of children and youth with special heath care needs.

Research has also shown that families and individuals are more likely to prepare for emergencies or follow health-related emergency directives when the information comes from a health care professional, particularly someone engaged in their care. There is very little information about the capacity of these trusted sources to reach at-risk individuals during disasters, or their coordination into government risk communication efforts.

Finally, although social media is used by at-risk populations on a daily basis, relatively little is known about how these populations use social media during disasters, as the majority of the studies analyzing channels used by at-risk populations were completed before the widespread use of social media in disasters.

This study will utilize a multi-tiered, mixed methods approach to data collection to study the communication needs of two target populations during disasters: Families with children and youth with special health care needs (CYHCN); and individuals with Autism Spectrum Disorders (ASD), as well as families with children who have Autism Spectrum Disorders.

Data collection will consist of surveys, as well as focus groups and interviews. For each population, we will collect data from (1) families (i.e., parents/caregivers of children and adolescents, as well as adolescents themselves) with special health care needs and ASD; and (2) the medical, social service and other providers who serve them. In addition, we will collect data from emergency response agency representatives and experts in health information and communications technology to ask cross-cutting questions regarding the use of technology to communicate during disasters, and the perspectives and needs of individuals and agencies charged with leading disaster response efforts.

There are no costs to respondents other than their time. The estimated annualized burden is 419 hours.

Estimated Annualized Burden Hours
Type of respondent | Form name | Number of respondents | Number of responses per respondent | Average burden per response (in hours)
Families/Caregivers (CYSHCN) | CYSHCN Family/Caregiver Survey | 150 | 1 | 15/60
Families/Caregivers (ASD) | ASD Family/Caregiver Survey | 200 | 1 | 15/60
Providers (CYSHCN) | CYSHCN Provider Survey | 250 | 1 | 15/60
Providers (ASD) | ASD Provider Survey | 150 | 1 | 15/60
Families/Caregivers (CYSHCN) | CYSHCN Family/Caregiver Interviews | 50 | 1 | 1
Families/Caregivers (ASD) | ASD Family/Caregiver Interviews | 30 | 1 | 1
Families/Caregivers (CYSHCN and ASD) | CYSHCN & ASD Family/Caregiver Evaluation Focus Group | 30 | 1 | 90/60
Providers (CYSHCN) | CYSHCN Provider Focus Group | 20 | 1 | 90/60
Providers (ASD) | ASD Provider Focus Group | 10 | 1 | 90/60
Emergency Response Organizations | Emergency Response Focus Group | 10 | 1 | 90/60
Health IT Professionals | Health IT Focus Group | 10 | 1 | 90/60
Providers | Provider Evaluation Focus Group | 20 | 1 | 90/60

Leroy A. Richardson,
Chief, Information Collection Review Office, Office of Scientific Integrity, Office of the Associate Director for Science, Office of the Director, Centers for Disease Control and Prevention.

[FR Doc. 2018-04176 Filed 2-28-18; 8:45 am]

BILLING CODE 4163-18-P